ENVIRONMENTAL PROTECTION AGENCY

40 CFR Part 141

[FRL-6863-3]

RIN 2040-AD58

Unregulated Contaminant Monitoring Regulation for Public Water Systems; Analytical Methods for List 2 Contaminants; Clarificaions to the Unregulated Contaminant Monitoring Regulation

Correction

In proposed rule document 00-22488 beginning on page 55362 in the issue of Wednesday, September 13, 2000, make the following correction:

§141.40 [Corrected]

On page 55395, in §141.40(a)(3), in the second table, “List 3-Pre-Screen Testing-Radionuclides” should read “List 3-Pre-Screen Testing-Microorganisms”.

[FR Doc. C0-22488 Filed 9-25-00; 8:45 am]

BILLING CODE 1505-01-D

DEPARTMENT OF JUSTICE

Immigration and Naturalization Service

8 CFR Parts 204 and 245

[INS No. 2048-00]

RIN 1115-AF75

National Interest Waivers for Second Preference Employment-Based Immigrant Physicians Serving in Medically Underserved Areas or at Department of Veterans Affairs Facilities

Correction

In rule document 00-22832 beginning on page 53889 in the issue of Wednesday, September 6, 2000, make the following corrections:

§204.12 [Corrected]

1. On page 53893, in the third column, in §204.12(c), in the third line, “is” should read “as”.

§245.18 [Corrected]

2. On page 53895, in the third column, in §245.18(d)(1), in the fifth and sixth lines the words “waiver based upon full-time clinical practice in an underserved” were repeated and should be removed.

3. On page 53896, in the first column, in §245.18(f)(3), in the fourth line “here” should read “her”.

4. On the same page, in the second column, §245.18(h)(1), in the fourth line “of” should read “or”.

[FR Doc. C0-22832 Filed 9-25-00; 8:45 am]

BILLING CODE 1505-01-D

DEPARTMENT OF JUSTICE

Immigration and Naturalization Service

8 CFR Part 214

[INS No. 1811-96]

1115-AE61

Habitual Residence in the Territories and Possessions of the United States

Correction

In rule document 00-23788 beginning on page 56463 in the issue of Tuesday, September 19, 2000, make the following correction:

On page 56464, in the third column, in the third full paragraph, in the 14th line, “now” should read “not”.

[FR Doc. C0-23788 Filed 9-25-00; 8:45 am]

BILLING CODE 1505-01-D

DEPARTMENT OF TRANSPORTATION

Federal Aviation Administration

14 CFR Part 39

[Docket No. 99-NM-26-AD; Amendment 39-11902; AD 2000-19-01]

RIN 2120-AA64

Airworthiness Directives; Bombardier Model CL-600-1A11 (CL-600) and CL-600-2A12 (CL-601) Series Airplanes

Correction

In rule document 00-23579 beginning on page 56780 in the issue of Wednesday, September 20, 2000, make the following correction:

§39.13 [Corrected]

On page 56782, in §39.13, in the third column, in the paragraph (h), in the last line, “October 20, 2000” should read “October 25, 2000”.

[FR Doc. C0-23579 Filed 9-25-00; 8:45 am]

BILLING CODE 1505-01-D

DEPARTMENT OF TRANSPORTATION

Research and Special Programs Administration

49 CFR Part 192

[RSPA-97-2094; Amdt. Nos. 192-89; 195-69]

RIN 2137-AC54

Pipeline Safety: Underwater Abandoned Pipeline Facilities

Correction

In rule document 00-22986 beginning on page 54440 in the issue of Friday, September 8, 2000, make the following correction:

PART 192 [CORRECTED]

On page 54443, in the third column, in §192.727(g)(2), in the third line, “April 10, 2000.” should read “April 10, 2001.”.

[FR Doc. C0-22986 Filed 9-25-00; 8:45 am]

BILLING CODE 1505-01-D